DEPARTMENT OF ENERGY

Federal Energy Regulatory Commission

[Project No. 9690-115]

Eagle Creek Hydro Power, LLC; Eagle Creek Water Resources, LLC; Eagle Creek Land Resources, LLC; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: New Major License.

b. Project No.: 9690-115.

c. Date Filed: March 31, 2020.

d. Applicants: Eagle Creek Hydro Power, LLC, Eagle Creek Water Resources, LLC, and Eagle Creek Land Resources, LLC (collectively referred to as Eagle Creek).

e. Name of Project: Rio Hydroelectric Project (Rio Project).

f. Location: The existing project is located on the Mongaup River in Sullivan and Orange Counties, New York. The project does not occupy federal lands.

g. Filed Pursuant to: Federal Power Act 16 U.S.C. 791 (a)-825(r).

h. Applicant Contact: Jody J. Smet, Vice President Regulatory Affairs, 116 N State Street, P.O. Box 167, Neshkoro, WI 54960; Telephone (804) 739-0654.

i. FERC Contact: Nicholas Ettema, (312) 596-4447 or nicholas.ettema@ferc.gov.

j. Deadline for filing motions to intervene and protests, comments, recommendations, preliminary terms and conditions, and preliminary prescriptions: 60 days from the issuance date of this notice; reply comments are due 105 days from the issuance date of this notice.

The Commission strongly encourages electronic filing. Please file using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-9690-115.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

The Council on Environmental Quality (CEQ) issued a final rule on July 15, 2020, revising the regulations under 40 CFR parts 1500-1518 that federal agencies use to implement NEPA (see Update to the Regulations Implementing the Procedural Provisions of the National Environmental Policy Act, 85 FR 43304). The Final Rule became effective on and applies to any NEPA process begun after September 14, 2020. An agency may also apply the regulations to ongoing activities and environmental documents begun before September 14, 2020, which includes the proposed Rio Project. Commission staff intends to conduct its NEPA review in accordance with CEQ's new regulations.

l. The Rio Project consists of: (1) A reservoir with a gross storage capacity of 14,536 acre-feet and a surface area of 444 acres; (2) a 264-foot-long, gravity-type concrete spillway with a maximum height of 101 feet at a crest elevation of 810 feet National Geodetic Vertical Datum of 1929 (NGVD29); (3) a 22-foot-long, concrete gravity intake structure; (4) a 99-foot-long, concrete gravity non-overflow section; (5) a 540-foot-long, earth-fill embankment; (6) a 102-foot-long, concrete gravity non-overflow section; (7) a 460-foot-long, earth-fill embankment with a 20-foot-wide crest at an elevation of 825 feet NGVD29; (8) a 1.5-mile-long bypassed reach; (9) a 22-foot-square reinforced-concrete gatehouse with a 14-foot-high, 11-foot-wide steel intake gate; (10) a 15-foot-wide by 46-foot-high trashrack with 2.9-inch bar clear spacing at the entrance to the intake; (11) a 22-foot-long, 12.5-foot-high, and 9.5-foot-wide reinforced concrete intake structure; (12) a 90-foot-long, 11-foot-diameter, steel-elbow penstock that leads from the intake to a 7,000-foot-long, 11-foot-diameter steel penstock connected to a 40-foot-diameter by 65-foot-high steel surge tank; (13) a 10-foot-diameter, 290-foot-long underground steel penstock from the surge tank branching into two 7-foot-diameter, 90-foot-long steel penstocks leading to the main powerhouse; (14) an 82-foot-long by 30-feet-wide by 33-foot-high brick and steel main powerhouse containing two 5 megawatt (MW) vertical-axis turbines; (15) a 100-foot-long, 4-foot-diameter, high density polyethylene penstock that branches off the main penstock about 300 feet downstream of the dam and leads to a 30-foot-long by 27-foot-wide by 24-foot-high reinforced concrete minimum flow powerhouse containing one 0.8 MW horizontal-axis turbine; (16) a 45-foot-wide by 225-foot-long tailrace with a 65-foot-long concrete weir from the main powerhouse; (17) a 10-foot-wide by 38-foot-long tailrace from the minimum flow powerhouse; (18) a 150-foot-long, 4-kilovolt (kV) underground transmission line from the main powerhouse to an adjacent substation; and (19) a 7,600-foot-long, 4-kV aboveground transmission line from the minimum flow powerhouse to the substation. The project generates an average of 24,859 megawatt-hours annually. The megawatt-hours represents Units 1 through 3 from 2014-2019, including an extended outage of Unit 3 in 2015. Eagle Creek proposes to continue to operate the project in a peaking mode.

m. A copy of the application can be viewed on the Commission's website at https://www.ferc.gov using the “eLibrary” link. Enter the docket number excluding the last three digits in the docket number field to access the document. For assistance, contact FERC Online Support.

Register online at http://www.ferc.gov/docs-filing/esubscription.asp to be notified via email of new filings and issuances related to this or other pending projects. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “COMMENTS,” “REPLY COMMENTS,” “RECOMMENDATIONS,” “PRELIMINARY TERMS AND CONDITIONS,” or “PRELIMINARY FISHWAY PRESCRIPTIONS”; (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule: The application will be processed according to the following schedule. Revisions to the schedule may be made as appropriate.

Milestone | Target date
Deadline for filing comments, recommendations, preliminary terms and conditions, and preliminary fishway prescriptions | March 2021.
Deadline for Filing Reply Comments | May 2021.

p. Final amendments to the application must be filed with the Commission no later than 30 days from the issuance date of this notice.

q. A license applicant must file no later than 60 days following the date of issuance of the notice of acceptance and ready for environmental analysis provided for in § 5.22: (1) A copy of the water quality certification; (2) a copy of the request for certification, including proof of the date on which the certifying agency received the request; or (3) evidence of waiver of water quality certification. Please note that the certification request must be sent to the certifying authority and to the Commission concurrently.

Dated: January 29, 2021.
Kimberly D. Bose,
Secretary.

[FR Doc. 2021-02333 Filed 2-3-21; 8:45 am]

BILLING CODE 6717-01-P